DEPARTMENT OF LABOR

Employment and Training Administration

[TA-W-53,873]

Olympic West Sportswear, Inc., Cascada De Mexico, Inc., Cascade West Sportswear, Inc., Puyallup, WA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on January 2, 2004, applicable to workers of Olympic West Sportswear, Inc., a division of Cascade West Sportswear, Inc., Puyallup, Washington. The notice will be published soon in the Federal Register.

At the request of a company official, the Department reviewed the certification for workers of the subject firm. The workers are engaged in the production of outerwear.

New information shows that Cascade West Sportswear, Inc. is the parent firm of Olympic West Sportswear, Inc. and Cascada de Mexico, Puyallup, Washington. Workers of Cascada de Mexico, Inc. and Cascade West Sportswear provide administrative, marketing and management consulting services supporting the production of outerwear at Olympic West Sportswear, Inc., Puyallup, Washington.

Accordingly, the Department is amending the certification to properly reflect this matter.

The intent of the Department's certification is to include all workers of Olympic West Sportswear, Inc., Puyallup, Washington, who were adversely affected by a shift in production to Mexico.

The amended notice applicable to TA-W-53,873 is hereby issued as follows:

All workers of Olympic West Sportswear, Inc., including workers of Cascada de Mexico, Inc., and Cascade West Sportswear, Puyallup, Washington, who became totally or partially separated from employment on or after December 22, 2002, through January 2, 2006, are eligible to apply for adjustment assistance under section 223 of the Trade Act of 1974, and are also eligible to apply for alternative trade adjustment assistance under section 246 of the Trade Act of 1974.

Signed in Washington, DC, this 12th day of January, 2004.
Richard Church,
Certifying Officer, Division of Trade Adjustment Assistance.

[FR Doc. E4-243 Filed 02-10-04; 8:45 am]

BILLING CODE 4510-13-P